DEPARTMENT OF COMMERCE

Patent and Trademark Office

Fastener Quality Act Insignia Recordal Process

ACTION: Proposed collection; comment request.

SUMMARY: The United States Patent and Trademark Office (USPTO), as part of its continuing effort to reduce paperwork and respondent burden, invites the general public and other Federal agencies to comment on the continuing information collection, as required by the Paperwork Reduction Act of 1995, Public Law 104-13 (44 U.S.C. 3506(c)(2)(A)).

DATES: Written comments must be submitted on or before February 6, 2006.

ADDRESSES: You may submit comments by any of the following methods:

• E-mail: Susan.Brown@uspto.gov. Include “0651-0028 comment” in the subject line of the message.

• Fax: 571-273-0112, marked to the attention of Susan Brown.

• Mail: Susan K. Brown, Records Officer, Office of the Chief Information Officer, Office of Data Architecture and Services, Data Administration Division, U.S. Patent and Trademark Office, PO Box 1450, Alexandria, VA 22313-1450.

FOR FURTHER INFORMATION CONTACT: Requests for additional information should be directed to the attention of Sharon Marsh, Deputy Commissioner for Trademark Examination Policy, Office of the Commissioner for Trademarks, U.S. Patent and Trademark Office, PO Box 1451, Alexandria, VA 22313-1451; by telephone at 571-272-8900; or by e-mail at Sharon.Marsh@uspto.gov.

SUPPLEMENTARY INFORMATION:

I. Abstract

Under Section 5 of the Fastener Quality Act (FQA), 15 U.S.C. 5401 et seq. (as amended by Pub. L. 104-113, Pub. L. 105-234, and Pub. L. 106-34), certain industrial fasteners are required to bear an insignia identifying the manufacturer. The manufacturers of these fasteners are required to record the insignia with the USPTO to ensure that a fastener can be traced back to its manufacturer. The procedures for the recordal of insignias under the FQA are set forth in 15 CFR 280.300-280.326.

It is mandatory for manufacturers of fasteners covered by the FQA to submit an application to the USPTO for recordal of an insignia on the Fastener Insignia Register. The insignia may be either a unique alphanumeric designation that the USPTO will issue upon request, or a trademark that is either (1) registered at the USPTO or (2) the subject of an application to obtain a registration. Upon successful application for recordal of a fastener insignia, the USPTO will issue a Certificate of Recordal, which remains active for five years and then must be renewed. If ownership of a recorded alphanumeric designation is assigned to another entity, the designation becomes “inactive” and the new owner must submit an application in order to reactivate the designation within six months of the date of assignment. If the recordal is based on a trademark application or registration that is subsequently assigned to a new owner, the recordal becomes “inactive” and cannot be reactivated. Instead, the new owner of the trademark application or registration must apply for a new recordal.

This information collection includes one form, the Application for Recordal of Insignia or Renewal/Reactivation of Recordal Under the Fastener Quality Act (PTO-1611), which provides manufacturers with a convenient way to submit a request for the recordal of a fastener insignia or to renew or reactivate an existing Certificate of Recordal. Use of Form PTO-1611 is not mandatory, and applicants may instead prepare requests for recordal using their own format.

The public uses this information collection to comply with the insignia recordal provisions of the FQA. The USPTO uses the information in this collection to maintain the Fastener Insignia Register, which is open to public inspection. The public may download the Fastener Insignia Register from the USPTO Web site or purchase printed copies from the USPTO.

II. Method of Collection

By mail, facsimile, or hand delivery to the USPTO.

III. Data

OMB Number: 0651-0028.

Form Number(s): PTO-1611.

Type of Review: Extension of a currently approved collection.

Affected Public: Businesses or other for-profits.

Estimated Number of Respondents: 37 responses per year.

Estimated Time Per Response: The USPTO estimates that it will take the public approximately 10 minutes (0.17 hours) to gather the necessary information, prepare the form, and submit the request for recordal or renewal of a fastener insignia to the USPTO.

Estimated Total Annual Respondent Burden Hours: 6 hours per year.

Estimated Total Annual Respondent Cost Burden: $486 per year. The USPTO expects that the information in this collection will be prepared by paraprofessionals at an estimated rate of $81 per hour. Therefore, the USPTO estimates that the respondent cost burden for this collection will be $486 per year.

Item | Estimated time for response | Estimated annual responses | Estimated annual burden hours
Application for Recordal of Insignia or Renewal/Reactivation of Recordal Under the Fastener Quality Act (PTO-1611) | 10 minutes | 37 | 6
Total |  | 37 | 6

Estimated Total Annual Non-hour Respondent Cost Burden: $863. There are no capital start-up costs, recordkeeping costs, or maintenance costs associated with this information collection. However, this collection does have annual (non-hour) costs in the form of filing fees and postage costs.

Under 37 CFR 2.7, the filing fee for a recordal of fastener insignia or a renewal of an insignia recordal is $20. The USPTO estimates that it will receive 37 recordals or renewals of fastener insignia per year for a total of $740 in filing fees. If a manufacturer submits a renewal after the expiration date but within six months of that date, then the manufacturer must pay an additional $20 late renewal surcharge. The USPTO estimates that approximately 5 of the estimated 37 responses per year will be late renewals that incur the surcharge, for a total of $100 in additional charges. Therefore, the total estimated filing costs for this collection will be $863 per year.

The public may submit the information for this collection to the USPTO by mail through the United States Postal Service. The USPTO estimates that the average first-class postage cost for a mailed submission will be 63 cents, for a total postage cost of $23 per year.

The total non-hour respondent cost burden for this collection in the form of filing costs and postage costs is estimated to be $863 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: December 1, 2005.
Susan K. Brown,
Records Officer, USPTO, Office of the Chief Information Officer, Office of Data Architecture and Services, Data Administration Division.

[FR Doc. E5-7062 Filed 12-7-05; 8:45 am]

BILLING CODE 3510-16-P